DEPARTMENT OF COMMERCE

National Oceanic and Atmospheric Administration

Advisory Committee on Excellence in Space (ACES); Notice of Meeting

AGENCY: Office of Space Commerce (OSC), National Oceanic and Atmospheric Administration (NOAA), Department of Commerce (DOC).

ACTION: Notice of meeting.

SUMMARY: In accordance with the Federal Advisory Committee Act, as amended, the NOAA Office of Space Commerce announces the second meeting of the Advisory Committee on Excellence in Space (ACES).

DATES: March 5, 2025, from 9 a.m. to 5 p.m. EDT.

ADDRESSES: U.S. Department of Commerce, Herbert C. Hoover Building—Commerce Research Library, 1401 Constitution Ave. NW, Washington, DC 20230. In-person participation is limited to ACES members and DOC personnel. Public participation will occur via a hybrid format. The link for webinar registration will be posted, when available, on the ACES website, https://www.space.commerce.gov/aces.

FOR FURTHER INFORMATION CONTACT: Jason Y. Kim, Designated Federal Officer, Advisory Committee on Excellence in Space (ACES), NOAA Office of Space Commerce, U.S. Department of Commerce, Washington, DC 20230. Telephone: 202-482-5827. Email: space.commerce@noaa.gov.

SUPPLEMENTARY INFORMATION: ACES provides advice and recommendations to the NOAA Under Secretary or OSC Director on matters relating to OSC's statutory purview. The first meeting of ACES was held on October 3, 2024, in Washington, DC.

Agenda: The meeting will include discussions on topics pertinent to commercial space policy, regulation, and operational mission support, including commercial space mission authorization and supervision and space sustainability.

A detailed agenda with meeting materials will be available closer to the meeting date on the ACES website, https://www.space.commerce.gov/aces.

Written Comments: Members of the public may submit written comments to ACES at space.commerce@noaa.gov by March 3, 2025.

Special Accommodations: Requests for special accommodations may be directed to the Designated Federal Officer no later than March 3, 2025.

Dated: January 23, 2025.
Janice Starzyk,
Acting Director of the Office of Space Commerce.

[FR Doc. 2025-01885 Filed 1-28-25; 8:45 am]

BILLING CODE 3510-12-P